DEPARTMENT OF DEFENSE

Department of the Army

[Docket ID: USA-2009-0020]

Proposed Collection; Comment Request

AGENCY: Office of the Administrative Assistant to the Secretary of the Army, (OAA-AAHS), DoD.

ACTION: Notice.

In compliance with Section 3506(c) (2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 22, 2009.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Biometrics Task Force, 1901 South Bell, Suite 900, Crystal City, VA 22202. ATTN: (Michael E. Davis., LTC)., or call Department of the Army reports clearance officer at (703) 428-6440.

Title, Associated Form, and OMB Number: Defense Biometric Services, OMB Control Number 0702-TBD.

Needs and Uses: Information collection is needed to obtain the necessary data for effective screening of individuals seeking logical access to DoD facilities, installations, and networks. The information is used to established eligibility for access purposed, detection of fraud, law enforcement purposes and, in some cases, anti-terrorism screening.

Affected Public: Individuals or households; Business or other for profit; Not-for-profit institution; farms; Federal government, State, local or tribal government.

Annual Burden Hours: 83,333.

Number of Respondents: 500,000.

Responses per Respondent: 1.

Average Burden per Response: 10 minutes.

Frequency: On occasion.

SUPPLEMENTARY INFORMATION:

Summary of information Collection

Respondents are members of the armed forces, reserves, and others seeking access to DoD facilities, installations, and networks. Biometrics and associates contextual data will be collected at time of enrollment and the biometric verifies at points of entry to confirm the identity of the individual. Securing DoD facilities, installations, and networks, reducing fraud, and eliminating the insider threat are all key to ensuring the ability of DoD to protect personnel and the nation.

Dated: May 29, 2009.
Patricia L. Toppings,
OSD Federal Register Liaison Officer, Department of Defense.

[FR Doc. E9-17642 Filed 7-23-09; 8:45 am]

BILLING CODE 5001-06-P